DEPARTMENT OF ENERGY

Federal Energy Regulatory Commission

[Project No. 8369-050]

Village of Saranac Lake; Notice of Application Tendered for Filing With the Commission and Soliciting Additional Study Requests and Establishing Procedural Schedule for Relicensing and a Deadline for Submission of Final Amendments

Take notice that the following hydroelectric application has been filed with the Commission and is available for public inspection.

a. Type of Application: Subsequent License.

b. Project No.: 8369-050.

c. Date Filed: September 30, 2025.

d. Applicant: Village of Saranac Lake (Village).

e. Name of Project: Lake Flower Dam Hydroelectric Project.

f. Location: On the Saranac River in the Franklin and Essex Counties, New York.

g. Filed Pursuant to: Federal Power Act, 16 U.S.C. 791(a)-825(r).

h. Applicant Contact: Bachana Tsiklauri, Village Manager, Village of Saranac Lake, 39 Main Street, Saranac Lake, New York 12983; telephone at (518) 891-4150; email at manager@saranaclakeny.gov.

i. FERC Contact: Arash Barsari, Project Coordinator, Great Lakes Branch, Division of Hydropower Licensing; telephone at (202) 502-6207; email at Arash.JalaliBarsari@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on December 1, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Lake Flower Dam Hydroelectric Project (P-8369-050).

m. The application is not ready for environmental analysis at this time.

Project Description: The project includes a dam with a spillway crest elevation of 1,528.0 feet National Geodetic Vertical Dam of 1929 (NGVD 29). The dam creates an impoundment that has a surface area of 1,360 acres at 1,528.0 feet NGVD 29. From the impoundment, water flows through an intake structure located on the southern shoreline of the impoundment, approximately 100 feet upstream of the dam. The intake structure includes trashracks with 1-inch clear bar spacing. From the intake structure, water flows to a powerhouse that contains a 200-kilowatt Kaplan turbine-generator unit. Water is discharged from the powerhouse to a tailrace that empties into the Saranac River.

Electricity generated at the powerhouse is transmitted to the electric grid via an underground generator lead line, transformer, and overhead transmission line.

Project recreation facilities include: (1) Riverside Park that includes picnic tables and a pavilion; (2) Hydropoint Park that includes a hand-carry boat access site on the shoreline of the impoundment; (3) Beaver Park that includes a hand-carry boat put-in site on the west bank of the Saranac River downstream of the dam; and (4) the River Walk that includes a recreation trail along the Saranac River.

The Village proposes to: (1) continue operating the project in a run-of-river mode such that project outflow approximates inflow to the impoundment and the normal maximum surface elevation of the impoundment is maintained at 1,528.67 feet NGVD 29; (2) continue releasing a minimum flow of 55 cfs or inflow, whichever is less, as measured immediately downstream of the dam; (3) continue maintaining the project recreation facilities; (4) implement invasive species and bat and bald eagle plans filed with the license application; and (5) implement an impoundment drawdown plan and operation and compliance monitoring plan filed with the license application.

n. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-8369). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

o. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

p. Procedural Schedule: The application will be processed according to the following preliminary schedule. Revisions to the schedule will be made as appropriate.

Issue Deficiency Letter and Request Additional Information November 2025

Request Additional Information (if necessary) March 2026

Issue Notice of Application Accepted for Filing March 2026

Issue Notice of Scoping March 2026

Comments on Scoping April 2026

Issue Notice of Ready for Environmental Analysis April 2026

q. Final amendments to the application must be filed with the Commission no later than 30 days from the issuance date of the notice of ready for environmental analysis.

Dated: October 14, 2025.
Debbie-Anne A. Reese,
Secretary.

[FR Doc. 2025-20701 Filed 11-21-25; 8:45 am]

BILLING CODE 6717-01-P